SMALL BUSINESS ADMINISTRATION

[Declaration of Disaster #3615]

State of Florida (Amendment #2)

In accordance with a notice received from the Department of Homeland Security—Federal Emergency Management Agency—effective August 30, 2004, the above numbered declaration is hereby amended to establish the incident period for this disaster as beginning August 11, 2004, and continuing through August 30, 2004.

All other information remains the same, i.e., the deadline for filing applications for physical damage is October 12, 2004 and for economic injury the deadline is May 13, 2005.

(Catalog of Federal Domestic Assistance Program Nos. 59002 and 59008)
Dated: September 1, 2004.
Cheri L. Cannon,
Acting Associate Administrator for Disaster Assistance.

[FR Doc. 04-20540 Filed 9-9-04; 8:45 am]

BILLING CODE 8025-01-P